DEPARTMENT OF THE INTERIOR

Bureau of Land Management

[LLNVB00000 L71220000 GN0000 LVTFF1201640 241A; NVN-088878; NVN-091878; NVN-091879; 13-08807; MO# 4500049370; TAS:14X8069]

Notice of Intent To Prepare an Environmental Impact Statement for the Proposed Gibellini Mine Project, Eureka and White Pine Counties, NV

AGENCY: Bureau of Land Management, Interior.

ACTION: Notice of Intent.

SUMMARY: In compliance with the National Environmental Policy Act of 1969, as amended (NEPA), and the Federal Land Policy and Management Act of 1976, as amended, the Bureau of Land Management (BLM) Mount Lewis Field Office, Battle Mountain, Nevada, intends to prepare an Environmental Impact Statement (EIS) to analyze and disclose impacts associated with the Gibellini Mine Project, a proposed open pit vanadium mine, processing, and associated facilities, located on public land in Eureka and White Pine counties, Nevada, and by this notice is announcing the beginning of the scoping process to solicit public comments and identify issues.

DATES: This notice initiates the public scoping process for the EIS. Comments on issues may be submitted in writing until May 22, 2013. The date(s) and location(s) of any scoping meetings will be announced at least 15 days in advance through local media, newspapers and the BLM Web site at: http://www.blm.gov/nv/st/en/fo/battle_mountain_field.html. In order to be considered during the preparation of the Draft EIS, all comments must be received prior to the close of the 30 day scoping period or 15 days after the last public meeting, whichever is later. The BLM will provide additional opportunities for public participation upon publication of the Draft EIS.

ADDRESSES: You may submit comments related to the proposed Gibellini Mine Project by any of the following methods:

• Email: BLM_NV_BMDO_GibelliniProject@blm.gov.

• Fax: 775-635-4034.

• Mail: BLM, Mount Lewis Field Office, 50 Bastian Road, Battle Mountain, NV 89820.

Documents pertinent to this proposal may be examined at the Mount Lewis Field Office.

FOR FURTHER INFORMATION CONTACT: Gloria Tibbetts, Planning and Environmental Coordinator, telephone: 775-635-4060; address: 50 Bastian Road, Battle Mountain, NV 89820; email: gtibbetts@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: American Vanadium US, Inc. proposes to construct, operate, reclaim, and close an open pit, heap leach, vanadium mining operation known as the Gibellini Mine Project. The proposed project also includes a water, power and communications corridor extending 6.5 miles from the Fish Creek Ranch to the proposed project area.

The proposed project would be located 27 miles south of Eureka, Nevada in Eureka and White Pine counties. The proposed project area contains approximately 7,697 acres of public land managed by the Mount Lewis Field Office; of that area, approximately 730 acres of disturbance is proposed.

For this proposed project, vanadium would be used in an electrolyte solution in the development of new energy storage technology. A photovoltaic solar field would be built at the mine to demonstrate the new battery technology on-site.

The Gibellini Mine Project is in conformance with the 1986 Shoshone-Eureka Resource Area Resource Management Plan (RMP) and Record of Decision which states that all public land in the planning areas will be open for mining and prospecting unless withdrawn or restricted from mineral entry. One of the objectives of the RMP is to make available and encourage development of mineral resources to meet the national, regional, and local needs consistent with national objectives, for an adequate supply of minerals.

Approximately 3.5 million tons of ore and waste rock would be mined annually and extracted using conventional open pit mining methods of drilling and blasting over the approximately seven-year production phase of the mine life. The proposed project includes mining approximately 15.6 million tons of ore material containing 120.5 million pounds of vanadium over the mine life. Approximately 4.3 million tons of waste rock and sub-grade ore material would be mined during the life of the project. The primary facilities associated with the proposed project would include the open pit, waste rock dump facility, mine office and facilities, photovoltaic solar field, crushing facilities and stockpile, heap leach pad, process facility, various process and make up water ponds, borrow areas, mine and access roads, exploration activities and a 6.5-mile water, power and communications corridor. American Vanadium US, Inc. would employ up to 160 employees for the construction of the proposed project and approximately 120 employees during the production phase of the mine, including contractors.

An interdisciplinary approach will be used to develop the EIS in order to consider the variety of resource issues and concerns identified during the scoping period. Potential direct, indirect, residual, and cumulative impacts from the proposed action will be analyzed in the EIS.

The purpose of the public scoping process is to determine relevant issues that will influence the scope of the environmental analysis, including potential alternatives, and the extent to which those issues and impacts will be analyzed in the EIS. At present, the BLM has identified the following preliminary issues: (1) Closure of the sulfuric acid heap leach pad; (2) Impacts to vegetation and wildlife that could include loss of habitat for Greater sage-grouse and loss of acreage for livestock grazing; and (3) Cumulative socioeconomic concerns associated with the influx of workers expected to be employed by this mine and others in the nearby areas over the next several years.

The BLM will follow the NEPA public participation requirements to satisfy the public involvement requirements under Section 106 of the National Historic Preservation Act (NHPA) (16 U.S.C. 470(f)) pursuant to 36 CFR 800.2(d)(3). Any information about historic and cultural resources within the area potentially affected by the proposed project will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Gibellini Mine Project are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Timothy J. Coward,
Acting Field Manager, Mount Lewis Field Office.

[FR Doc. 2013-09393 Filed 4-19-13; 8:45 am]

BILLING CODE 4310-HP-P